DEPARTMENT OF LABOR

Employment and Training Administration

[TA-W-65,539]

Lexis Nexis, San Francisco, CA; Notice of Termination of Investigation

Pursuant to Section 221 of the Trade Act of 1974, as amended, an investigation was initiated on February 10, 2009 in response to a petition filed by a State Workforce officer on behalf of all workers at Lexis Nexis, San Francisco, California.

The petitioner requested that the petition be withdrawn. Consequently, the investigation has been terminated.

Signed at Washington, DC, this 17th day of March 2009.
Richard Church,
Certifying Officer, Division of Trade Adjustment Assistance.

[FR Doc. E9-6544 Filed 3-24-09; 8:45 am]

BILLING CODE 4510-FN-P